DEPARTMENT OF THE INTERIOR

Fish and Wildlife Service

Initial Approved Information Collection; Training Applications

AGENCY: Fish and Wildlife Service, Interior

ACTION: 60-Day notice; request for comments.

SUMMARY: The U.S. Fish and Wildlife Service is announcing its intention to automate the collection of training applications and provide an optional alternative application specifically for the training conducted by the USFWS National Conservation Training Center. Applicants who wish to participate in training sponsored by the National Conservation Training Center (NCTC) fill out a training request nomination application offered in both hard copy and web registration format. Fish and Wildlife Service employees requesting non NCTC training or conference attendance complete the electronic SF-182 application via the Training Server Applications.

The USFWS currently utilizes the Office of Personnel Management, Standard Form 182 (Rev 12/79) which was designed with five or ten parts with carbon attachments and to be completed via type writer and is not kept electronically.

We will submit the collection of information listed below to the Office of Management and Budget (OMB) for approval under the provisions of the Paperwork Reduction Act of 1995. If you wish to obtain copies of the proposed information collection requirement, related forms, and explanatory material, contact the Collection Clearance Officer at the address listed below.

DATES: OMB has up to 60 days to approve or disapprove information collection, but may respond after 30 days. Therefore, to ensure maximum consideration you must submit comments on or before August 1, 2001.

ADDRESSES: Send your comments and suggestions on specific requirements to the Office of Management and Budget, Attention: Rebecca Mullin, Collection Clearance Officer, U.S. Fish and Wildlife Service, MS 222-ARLSQ; 4401 N. Fairfax Drive, Arlington, VA 22203.

FOR FURTHER INFORMATION CONTACT: To request a copy of the information collection request, explanatory information and related forms, contact Rebecca A. Mullin, Collection Clearance Officer at 703-358-2287, or electronically to: Rebecca_Mullin@fws.gov

SUPPLEMENTARY INFORMATION: OMB regulations at 5 CFR part 1320, which implement the provisions of the Paperwork Reduction Act of 1995 (Pub. L. 104-13), require that interested members of the public and affected agencies have an opportunity to comment on information collection and record keeping activities (see 5 CFR 1320.8(d)). The U.S. Fish and Wildlife Service (WE) has submitted a request to OMB to approve collection of information for the Service's training application form. We are requesting a 3-year approval for the information collection activity.

We invite comments concerning this information collection on: (1) Whether the collection of information is necessary for the proper performance of the functions of the agency, including whether the information will have practical utility; (2) the accuracy of the agency's estimate of burden, (3) ways to enhance the quality, utility and clarity of the information to be collected; and (4) ways to minimize the burden of the collection of information on those who are to respond. The information collection in this program are part of a system of record covered by the Privacy Act (5 U.S.C. 552a).

Federal agencies may not conduct or sponsor, and a person is not required to respond to, a collection of information unless it displays a currently valid OMB control number.

The information collection requirements in this submission implement the regulatory requirements of the Statute Title 5 U.S.C. Chapter 41, Section 5 CFR part 410, and 231 FW1 Training Management Policy and Responsibilities.

OMB Control Number: 1018-

Service Form Number: FWS Form 3-2193

Frequency of Collection: As training enrollment dictates

Description of Respondents: All affiliations of persons who wish to participate in training given at or sponsored by the USFWS National Conservation Training Center. These are generally natural conservation related affiliates such as Service employees, Department of Interior employees, other Federal employees such as EPA, DOD biologists, OPM, state agency personnel, private, not-for-profit agencies such as The Conservation Fund, and university personnel.

Total Annual Burden Hours: 73,500.

Total Annual Responses: 14,212.

Total Annual Non-Hour Cost Burden: $0.

Dated: May 30, 2001.
Rebecca A. Mullin,
Information Collection Officer, U.S. Fish and Wildlife Service.

[FR Doc. 01-14181 Filed 6-1-01; 8:45 am]

BILLING CODE 4310-55-M